DEPARTMENT OF ENERGY

Federal Energy Regulatory Commission

[Docket No. CP20-8-000]

ANR Pipeline Company; Notice of Schedule for Environmental Review of the Grand Chenier Xpress Project

On October 28, 2019, ANR Pipeline Company (ANR), filed an application in Docket No. CP20-8-000 requesting a Certificate of Public Convenience and Necessity pursuant to sections 7(b) and 7(c) of the Natural Gas Act to abandon, construct, and operate certain natural gas pipeline facilities. The proposed project is known as the Grand Chenier XPress Project (Project), and includes facilities in Acadia, Jefferson Davies, and Cameron Parishes, Louisiana. The Project would provide open access firm transportation service of 400 million cubic feet per day of incremental capacity from ANR's Southeast Head station ¹ to the Mermentau River GCX Meter Station.

¹ ANR's Head Station is a pooling point where natural gas is aggregated from many receipt points.

On November 6, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: March 27, 2020.

90-day Federal Authorization Decision Deadline: June 25, 2020.

If a schedule change becomes necessary, additional notice will be provided so that the relevant agencies are kept informed of the Project's progress.

Project Description

The Grand Chenier XPress Project would consist of the following facilities:

• Modifications of ANR's existing Eunice Compressor Station in Acadia Parish, Louisiana, to increase the total certificated horsepower (hp) from 24,000 hp to 39,370 hp, and abandonment of an existing reciprocating compressor in place;

• construction of a new 23,470 hp greenfield compressor station (Mermentau Compressor Station) in Jefferson Davis Parish, Louisiana;

• modifications of the existing Dresser-Rand compressor unit and installation of 42 feet of above ground piping at the Grand Chenier Compressor Station in Cameron Parish, Louisiana; and

• modifications of the Mermentau River GCX Meter Station under ANR's blanket certificate (CP82-480-000), including the installation of an additional meter run and related appurtenant facilities in order to increase the delivery capability from 700 million cubic feet per day to 1.1 billion cubic feet per day.

Background

On December 5, 2019, the Commission issued a Notice of Intent to Prepare an Environmental Assessment for the Proposed Grand Chenier XPress Project and Request for Comments on Environmental Issues (NOI). The NOI was sent to affected landowners; federal, state, and local government agencies; elected officials; environmental and public interest groups; Native American tribes; other interested parties; and local libraries and newspapers. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-8), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 20, 2019.
Kimberly D. Bose,
Secretary.

[FR Doc. 2019-28126 Filed 12-27-19; 8:45 am]

BILLING CODE 6717-01-P